DEPARTMENT OF HEALTH AND HUMAN SERVICES

Centers for Disease Control and Prevention

National Task Force on Fetal Alcohol Syndrome and Fetal Alcohol Effect (NTFFASFAE): Meeting

In accordance with section 10(a)(2) of the Federal Advisory Committee Act (Pub. L. 92-463), the Centers for Disease Control and Prevention (CDC) announces the following meeting of the aforementioned Federal advisory committee.

Times and Dates: 8:30 a.m.-4:30 p.m., February 28, 2007. 8:30 a.m.-1 p.m., March 1, 2007.

Place: SpringHill Suites Atlanta Buckhead, 3459 Buckhead Loop, NE., Atlanta, Georgia 30326, telephone 404/844-4800, fax 404/844-4801.

Status: Open to the public, limited only by the space available. The meeting room accommodates approximately 80 people.

Purpose: The Secretary is authorized by the Public Health Service Act, Section 399G, (42 U.S.C. 280f, as added by Pub. L. 105-392) to establish a National Task Force on Fetal Alcohol Syndrome and Fetal Alcohol Effect to: (1) foster coordination among all governmental agencies, academic bodies and community groups that conduct or support Fetal Alcohol Syndrome (FAS) and Fetal Alcohol Effect (FAE) research, programs and surveillance; and (2) to otherwise meet the general needs of populations actually or potentially impacted by FAS and FAE.

Matters to Be Discussed: Agenda items include: Presentation of draft report on evidence-based fetal alcohol spectrum disorders (FASD) community-based prevention strategies with deliberations by the Task Force; presentation on U.S. Preventive Services Task Force report on alcohol use screening and behavioral counseling interventions; report on work of Post-exposure working group regarding recommendations for future directions in FASD policy and research; updates from the Interagency Coordinating Committee on FAS, the CDC and other Federal agencies, and liaison representatives; and scheduling of the next meeting.

Agenda items are subject to change as priorities dictate.

For Further Information Contact: Mary Kate Weber, M.P.H., Designated Federal Official, National Center on Birth Defects and Developmental Disabilities, CDC, 1600 Clifton Road, NE., (E-86), Atlanta, Georgia 30333, telephone 404/498-3926, fax 404/498-3550.

The Acting Director, Management Analysis and Services Office, has been delegated the authority to sign Federal Register notices pertaining to announcements of meetings and other committee management activities for both the CDC and ATSDR.

Elaine L. Baker,
Acting Director, Management Analysis and Services Office, Centers for Disease Control and Prevention.

[FR Doc. E7-1493 Filed 1-30-07; 8:45 am]

BILLING CODE 4163-18-P